COMMISSION ON CIVIL RIGHTS

Agenda and Notice of Public Meeting of the Colorado Advisory Committee

Notice is hereby given, pursuant to the provisions of the rules and regulations of the U.S. Commission on Civil Rights (Commission), and the Federal Advisory Committee Act (FACA), that a planning meeting of the Colorado Advisory Committee to the Commission will convene by teleconference at 10 a.m. (MDT) on Tuesday, November 22, 2011. The purpose of the meeting is to discuss next steps after project selection.

This meeting is available to the public through the following toll-free call-in number: (800) 516-9896. Conference ID: 8334. Any interested member of the public may call this number and listen to the meeting. Callers can expect to incur charges for calls they initiate over wireless lines, and the Commission will not refund any incurred charges. Callers will incur no charge for calls they initiate over land-line connections to the toll-free telephone number. Persons with hearing impairments may also follow the proceedings by first dialing Dial 711 for relay services and enter 1-(800) 516-9896, followed by Conference ID: 8334. To ensure that the Commission secures an appropriate number of telephone lines for the public, persons are asked to contact the Rocky Mountain Regional Office 10 days before the meeting date either by email at ebohor@usccr.gov, or by phone at (303) 866-1040.

Members of the public are entitled to submit written comments; the comments must be received in the regional office by December 22, 2011. Comments may be mailed to the Rocky Mountain Regional Office, U.S. Commission on Civil Rights, 999-18th Street, Suite 1380 South, Denver, CO 80202, faxed to (303) 866-1050, or emailed to ebohor@usccr.gov. Persons who desire additional information may contact the Rocky Mountain Regional Office by email at ebohor@usccr.gov or by phone at (303) 866-1040.

Records generated from this meeting may be inspected and reproduced at the Rocky Mountain Regional Office, as they become available, both before and after the meeting. Persons interested in the work of this advisory committee are directed to the Commission's Web site, http://www.usccr.gov, or may contact the Rocky Mountain Regional Office at the above email or street address.

The meeting will be conducted pursuant to the rules and regulations of the Commission and FACA.

Dated in Washington, DC, on November 4, 2011.
Peter Minarik,
Acting Chief, Regional Programs Coordination Unit.

[FR Doc. 2011-29115 Filed 11-9-11; 8:45 am]

BILLING CODE 6335-01-P